DEPARTMENT OF TRANSPORTATION

Federal Motor Carrier Safety Administration

[Docket No. FMCSA-2015-0048]

Qualification of Drivers; Exemption Applications; Vision

AGENCY: Federal Motor Carrier Safety Administration (FMCSA), DOT.

ACTION: Notice of applications for exemptions, request for comments.

SUMMARY: FMCSA announces receipt of applications from 26 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before June 5, 2015. All comments will be investigated by FMCSA. The exemptions will be issued the day after the comment period closes.

ADDRESSES: You may submit comments bearing the Federal Docket Management System (FDMS) Docket No. FMCSA-2015-0048 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 26 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

R.J. Bauernfeind

Mr. Bauernfeind, 61, has had a prosthetic left eye since 2009 due to amelanotic melanoma. The visual acuity in his right eye is 20/20, and in his left eye, no light perception. Following an examination in 2014, his ophthalmologist stated, “Mr. Bauernfeind's vision in his right eye is sufficient to perform the driving tasks required to operate a commercial vehicle.” Mr. Bauernfeind reported that he has driven straight trucks for 25 years, accumulating 430,300 miles. He holds an operator's license from New York. His driving record for the last 3 years shows no crashes and no convictions for moving violations in a CMV.

Ralph H. Bushman

Mr. Bushman, 49, has had corneal scarring in his right eye since 2006 due to a recurrent infection. The visual acuity in his right eye is 20/250, and in his left eye, 20/20. Following an examination in 2014, his optometrist stated, “Given that his only deficit is to the central acuity in the right eye and this has no effect on his peripheral vision or effect on his acuity with both eyes open and he is stable, it is my opinion that Mr. Bushman has all the visual skills necessary to operate a commercial vehicle.” Mr. Bushman reported that he has driven tractor-trailer combinations for 21 years, accumulating 2.1 million miles. He holds a Class A CDL from Illinois. His driving record for the last 3 years shows no crashes and no convictions for moving violations in a CMV.

Stephen M. Cook

Mr. Cook, 54, has complete loss of vision in his right eye due to a traumatic incident in 1989. The visual acuity in his right eye is no light perception, and in his left eye, 20/20. Following an examination in 2014, his optometrist stated, “In my professional opinion, Stephen's vision is sufficient to operate a commercial motor vehicle.” Mr. Cook reported that he has driven straight trucks for 36 years, accumulating 90,000 miles. He holds an operator's license from Pennsylvania. His driving record for the last 3 years shows no crashes and no convictions for moving violations in a CMV.

Roderick Croft

Mr. Croft, 39, has had amblyopia in his left eye since childhood. The visual acuity in his right eye is 20/25, and in his left eye, 20/100. Following an examination in 2014, his optometrist stated, “In my opinion, I feel that Mr. Croft has sufficient vision to perform the driving tasks required to operate a commercial vehicle.” Mr. Croft reported that he has driven tractor-trailer combinations for 16 years, accumulating 800,000 miles. He holds a Class A CDL from Florida. His driving record for the last 3 years shows no crashes and two convictions for moving violations in a CMV; in one instance, he exceeded the speed limit by 20 mph; in the other instance, he exceeded the speed limit by 12 mph.

Jeffrey S. Daniel

Mr. Daniel, 44, has had a prosthetic left eye since childhood due to Coat's disease. The visual acuity in his right eye is 20/20, and in his left eye, no light perception. Following an examination in 2014, his optometrist stated, “In my opinion, Mr. Daniel has sufficient vision to perform the driving tasks required to operate a commercial vehicle.” Mr. Daniel reported that he has driven straight trucks for 18 years, accumulating 233,280 miles. He holds an operator's license from Virginia. His driving record for the last 3 years shows no crashes and no convictions for moving violations in a CMV.

Lawrence M. Davis

Mr. Davis, 61, has had amblyopia in his right eye since birth. The visual acuity in his right eye is 20/200, and in his left eye, 20/20. Following an examination in 2014, his optometrist stated, “In my opinion Mr. Davis has sufficient vision to perform the driving tasks in a commercial vehicle.” Mr. Davis reported that he has driven straight trucks for 27 years, accumulating 135,000 miles, and tractor-trailer combinations for 24 years, accumulating 1,200 miles. He holds a Class A CDL from Vermont. His driving record for the last 3 years shows no crashes and no convictions for moving violations in a CMV.

Bobby C. Floyd

Mr. Floyd, 55, has had amblyopia in his right eye since childhood. The visual acuity in his right eye is 20/100, and in his left eye, 20/20. Following an examination in 2014, his ophthalmologist stated, “Based on Color vision by the the pt [sic] today, he is able to recognize the colors of traffic signals and devices showing red, green and amber. Also, based upon visual field testing done in the office and with best correction possible the patient has sufficient vision to perform the driving tasks required to operate a commercial vehicle.” Mr. Floyd reported that he has driven tractor-trailer combinations for 25 years, accumulating 3.13 million miles. He holds a Class A CDL from Tennessee. His driving record for the last 3 years shows no crashes and no convictions for moving violations in a CMV.

Jayme L. Gilbert

Mr. Gilbert, 54, has had amblyopia in his left eye since childhood. The visual acuity in his right eye is 20/20, and in his left eye, 20/60. Following an examination in 2014, his optometrist stated, “While it is true that Jayme does have reduced visual acuity in the left eye due to stable congenital amblyopia, in my professional opinion, this would have no effect on his ability to operate a commercial motor vehicle in any capacity.” Mr. Gilbert reported that he has driven straight trucks for 35 years, accumulating 2.98 million miles. He holds a Class BM CDL from New York. His driving record for the last 3 years shows no crashes and no convictions for moving violations in a CMV.

Jesse M. Greene

Mr. Greene, 69, has been pseudophakic secondary to a cataract, glaucoma, and an anisometropic amblyopic correction in his left eye due to a traumatic incident in 1985. The visual acuity in his right eye is 20/20, and in his left eye, 20/80. Following an examination in 2014, his optometrist stated, “It is my opinion that Mr. Greene has sufficient vision to perform the vision tasks required to operate a commercial vehicle in manner and capacity that is needed for his present job description.” Mr. Greene reported that he has driven straight trucks for 10 years, accumulating 50,000 miles. He holds an operator's license from Tennessee. His driving record for the last 3 years shows no crashes and no convictions for moving violations in a CMV.

David A. Hayes

Mr. Hayes, 56, has field of vision loss in his left eye due to a stroke that occurred ten years ago. The visual acuity in his right eye is 20/25, and in his left eye, 20/40. Following an examination in 2014, his ophthalmologist stated, “Vision Program . . . Since Mr. Hayes has been driving for the past 10 years without a traffic accident, it is my opinion that he is competent to continue driving.” Mr. Hayes reported that he has driven tractor-trailer combinations for 21 years, accumulating 2.08 million miles. He holds a Class AM CDL from Georgia. His driving record for the last 3 years shows no crashes and no convictions for moving violations in a CMV.

George E. Holbrook

Mr. Holbrook, 70, has scarring in his left eye due to a traumatic incident during childhood. The visual acuity in his right eye is 20/20, and in his left eye, 20/200. Following an examination in 2014, his ophthalmologist stated, “In my opinion he has sufficient vision to perform the driving tasks required to operate a commercial vehicle.” Mr. Holbrook reported that he has driven tractor-trailer combinations for 41 years, accumulating 1.95 million miles. He holds an operator's license from Massachusetts. His driving record for the last 3 years shows no crashes and no convictions for moving violations in a CMV.

James T. Johnson, Jr.

Mr. Johnson, 39, has had amblyopia in his left eye since childhood. The visual acuity in his right eye is 20/20, and in his left eye, 20/70. Following an examination in 2015, his optometrist stated, “Mr. Johnson has moderate refractive amblyopia OS with no visual field restriction in either eye . . . in my medical opinion, nothing in these findings would indicate a restriction to operating a commercial motor vehicle (CMV) not otherwise restricted.” Mr. Johnson reported that he has driven tractor-trailer combinations for 3.2 years, accumulating 352,000 miles. He holds a Class DA CDL from Kentucky. His driving record for the last 3 years shows no crashes and one conviction for a moving violation in a CMV; he exceeded the speed limit by 8 mph.

Robert W. Kleve

Mr. Kleve, 45, has had esotropia in his right eye since birth. The visual acuity in his right eye is counting fingers, and in his left eye, 20/20. Following an examination in 2015, his optometrist stated, “Based on his stable vision and ocular health, and his previous successful driving record, I feel he is competent to continue driving a commercial vehicle.” Mr. Kleve reported that he has driven straight trucks for 5 years, accumulating 97,500 miles. He holds an operator's license from Iowa. His driving record for the last 3 years shows no crashes and no convictions for moving violations in a CMV.

Bruce E. Koehn

Mr. Koehn, 31, has had strabismic amblyopia in his left eye since birth. The visual acuity in his right eye is 20/20, and in his left eye, 20/80. Following an examination in 2014, his ophthalmologist stated, “Certifies that in his/her medical opinion, you have sufficient vision to perform the driving tasks required to operate a commercial vehicle. Safe to drive. He was safe to drive before renewal & still is safe!! Nothing has changed!!” Mr. Koehn reported that he has driven straight trucks for 5 years, accumulating 225,000 miles, and tractor-trailer combinations for 5 years, accumulating 25,000 miles. He holds a Class A CDL from Kansas. His driving record for the last 3 years shows no crashes and no convictions for moving violations in a CMV.

Corey S. Kuborn

Mr. Kuborn, 50, has had esotropia and amblyopia in his left eye since childhood. The visual acuity in his right eye is 20/20, and in his left eye, 20/70. Following an examination in 2014, his ophthalmologist stated, “In my medical opinion, Mr. Corey's vision is stable and his visual field is adequate to drive. He should be allowed to operate a commercial truck.” Mr. Kuborn reported that he has driven straight trucks for 7 years, accumulating 101,500 miles. He holds an operator's license from Illinois. His driving record for the last 3 years shows no crashes and no convictions for moving violations in a CMV.

Collin C. Longacre

Mr. Longacre, 30, has hyphema in his right eye due to a traumatic incident in 2011. The visual acuity in his right eye is 20/70, and in his left eye, 20/20. Following an examination in 2014, his ophthalmologist stated, “Mr. Longacre is a 30-year-old male who sustained an ocular injury to the right eye in October 2011 . . . If these criteria meet the requirement for commercial driver's licensure, then I feel that he could operate a commercial vehicle.” Mr. Longacre reported that he has driven straight trucks for 7 years, accumulating 175,000 miles. He holds a Class BM CDL from Pennsylvania. His driving record for the last 3 years shows no crashes and no convictions for moving violations in a CMV.

Raymond W. Meier

Mr. Meier, 54, has had amblyopia in his left eye since childhood. The visual acuity in his right eye is 20/15, and in his left eye, 20/200. Following an examination in 2015, his optometrist stated, “Based on the above information and testing it is my medical opinion that Raymond Meier has sufficient vision to perform the driving tasks to operate a commercial vehicle.” Mr. Meier reported that he has driven straight trucks for 17 years, accumulating 153,000 miles, and tractor-trailer combinations for two years, accumulating 12,000 miles. He holds a Class A CDL from Washington. His driving record for the last 3 years shows no crashes and no convictions for moving violations in a CMV.

Michael L. Penrod

Mr. Penrod, 65, has strabismus and a cataract in his left eye due to a traumatic incident in childhood. The visual acuity in his right eye is 20/20, and in his left eye, light perception. Following an examination in 2014, his optometrist stated, “Pending the results of formal visual field testing which is being performed at a different office, my opinion is such that Mr. Penrod is fully capable and of sufficient vision to perform the driving tasks required to operate a comercial [sic] vehicle.” Mr. Penrod reported that he has driven tractor-trailer combinations for 39 years, accumulating 975,000 miles. He holds a Class A CDL from Iowa. His driving record for the last 3 years shows no crashes and no convictions for moving violations in a CMV.

Harry M. Pierson, Jr.

Mr. Pierson, 66, has had amblyopia in his right eye since birth. The visual acuity in his right eye is 20/100, and in his left eye, 20/20. Following an examination in 2014, his ophthalmologist stated, “He does not have any other conditions of concern and I believe his visual function is adequate to operate a commercial vehicle.” Mr. Pierson reported that he has driven straight trucks for 12 years, accumulating 240,000 miles, and tractor-trailer combinations for 8 years, accumulating 240,000 miles. He holds a Class A CDL from Oregon. His driving record for the last 3 years shows no crashes and no convictions for moving violations in a CMV.

Daniel A. Pyle

Mr. Pyle, 56, has had strabismic amblyopia in his left eye since childhood. The visual acuity in his right eye is 20/20, and in his left eye, 20/60. Following an examination in 2014, his optometrist stated, “In my professional opinion this condition (left esotropia/lazy eye) is stable. Because this individual has adapted to this long standing condition, I feel Daniel has sufficient vision to perform driving tasks required to operate a commercial vehicle.” Mr. Pyle reported that he has driven straight trucks for 40 years, accumulating 200,000 miles, and tractor-trailer combinations for 10 years, accumulating 150,000 miles. He holds a Class AM CDL from Pennsylvania. His driving record for the last 3 years shows no crashes and no convictions for moving violations in a CMV.

David P. Ramos

Mr. Ramos, 38, has a torn retina in his left eye due to a traumatic incident in childhood. The visual acuity in his right eye is 20/20, and in his left eye, 20/800. Following an examination in 2014, his optometrist stated, “To summarize, in my opinion, Mr. Ramos should have sufficient vision to perform commercial driving tasks.” Mr. Ramos reported that he has driven straight trucks for 8.5 years, accumulating 255,000 miles. He holds an operator's license from California. His driving record for the last 3 years shows no crashes and no convictions for moving violations in a CMV.

Jimmy L. Stevens

Mr. Stevens, 50, has had amblyopia in his left eye since childhood. The visual acuity in his right eye is 20/20, and in his left eye, 20/150. Following an examination in 2014, his optometrist stated, “Left eye decreased vision is long-standing, 2007 by our records and longer according to patient, but is stable. It is my opinion that the patient is capable to operate a commercial vehicle at this time; however, to ensure safety in the future, we do recommend annual eye examination.” Mr. Stevens reported that he has driven straight trucks for 28 years, accumulating 1.5 million miles. He holds an operator's license from South Carolina. His driving record for the last 3 years shows no crashes and no convictions for moving violations in a CMV.

David B. Stone

Mr. Stone, 47, has complete loss of vision in his right eye due to a traumatic incident in 1984. The visual acuity in his right eye is no light perception, and in his left eye, 20/20. Following an examination in 2014, his optometrist stated, “After completing my exam on David Stone on October 6, 2014, it is my opinion that he is capable of safely operating a commercial motor vehicle.” Mr. Stone reported that he has driven straight trucks for 30 years, accumulating 150,000 miles, and tractor-trailer combinations for 25 years, accumulating 125,000 miles. He holds a Class A CDL from Oklahoma. His driving record for the last 3 years shows no crashes and no convictions for moving violations in a CMV.

Dale G. Stringer

Mr. Stringer, 53, has had a macular and retinal scar in his left eye due to a traumatic incident in 1974. The visual acuity in his right eye is 20/20, and in his left eye, 20/200. Following an examination in 2014, his optometrist stated, “In my opinion Mr. Stringer's vision does not affect him from safely operating a commercial vehicle.” Mr. Stringer reported that he has driven straight trucks for 5 years, accumulating 7,655 miles. He holds a Class AM CDL from Texas. His driving record for the last 3 years shows no crashes and no convictions for moving violations in a CMV.

Carlyle D. Strong

Mr. Strong, 75, has had wet macular degeneration resulting in a macular scar in his right eye since 2010. The visual acuity in his right eye is 20/150, and in his left eye, 20/30. Following an examination in 2015, his optometrist stated, “With his 20/30 OU visual acuity and normal horizontal field of vision it is my opinion that Mr. Strong has sufficient visual abilities to operate a commercial vehicle safely.” Mr. Strong reported that he has driven straight trucks for two years, accumulating 160 miles, and tractor-trailer combinations for 53 years, accumulating 6.5 million miles. He holds a Class A CDL from Nebraska. His driving record for the last 3 years shows no crashes and no convictions for moving violations in a CMV.

Michael J. Tauriac, Jr.

Mr. Tauriac, 39, has had a cataract, retinal detachment, and retinal scar in his left eye since 2010. The visual acuity in his right eye is 20/20, and in his left eye, counting fingers. Following an examination in 2014, his ophthalmologist stated, “Based on the stability of Mr. Tauriac's vision and adjustment to his level of vision over the past four years, he seems to have sufficient vision to perform the driving required to operate a commercial vehicle.” Mr. Tauriac reported that he has driven straight trucks for 17 years, accumulating 102,000 miles. He holds a Class A CDL from Louisiana. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0048 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0048 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued On: April 30, 2015.
Larry W. Minor,
Associate Administrator for Policy.

[FR Doc. 2015-10605 Filed 5-5-15; 8:45 am]

BILLING CODE 4910-EX-P